DEPARTMENT OF HEALTH AND HUMAN SERVICES

Centers for Disease Control and Prevention

[30Day-21-21DC]

Agency Forms Undergoing Paperwork Reduction Act Review

In accordance with the Paperwork Reduction Act of 1995, the Centers for Disease Control and Prevention (CDC) has submitted the information collection request titled National Syringe Services Program (SSP) Evaluation to the Office of Management and Budget (OMB) for review and approval. CDC previously published a “Proposed Data Collection Submitted for Public Comment and Recommendations” notice on February 25, 2021 to obtain comments from the public and affected agencies. CDC received three public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Syringe Services Program Evaluation—New—National Center for HIV/AIDS, Viral Hepatitis, STD, and TB Prevention (NCHHSTP), Centers for Disease Control and Prevention (CDC).

Background and Brief Description

The primary purpose of the National Syringe Services Program (SSP) Evaluation is to strengthen and improve the capacity of SSPs to conduct regular monitoring and evaluation to ensure that comprehensive prevention services are provided to meet the needs of people who inject drugs (PWID). The project will include SSPs that are listed in a publicly available directory of all known SSPs in the United States maintained by the North American Syringe Exchange Network (NASEN; https://nasen.org). SSPs will be sent a letter of invitation to participate in a 35-minute program survey, called the Dave Purchase Memorial Survey. Participating programs will have the option of completing the survey via different modalities to enhance feasibility and comfort in completing the survey, for example via the Research Electronic Data Capture (REDCap) or a similarly secure web-based application. Other modalities for survey administration will include a coordinated telephone or videoconferencing interview.

The survey will include questions on operational characteristics and services, client characteristics and drug use patterns, client satisfaction, funding resources, community relations, and key operational successes and challenges. Approximately 600 SSPs will be able to participate in the survey. We anticipate that approximately 20% of SSPs will decline to complete the survey, yielding approximately 480 completed surveys per year. However, given that this is the first survey of SSPs funded by CDC during the COVID-19 pandemic, it makes it challenging to predict response rates. We estimate that it will take 35 minutes to complete the survey, regardless of how the respondent chooses to complete it (i.e., self-administered online or interviewer-administered by phone or videoconferencing). SSPs that do not respond to the initial survey invitation will be given reminders to complete the survey over the duration of the survey implementation period. The final reminder will include a link to a single question for SSPs that choose not to complete the survey about why they declined to complete the survey. Given the uncertainties in response rates described above, we are requesting enough burden hours to allow at least 80% of SSPs to respond to this question. We estimate that it will take two minutes to respond to this question.

The total estimated annual burden hours are 296. There are no other costs to respondents other than their time.

Estimated Annualized Burden Hours
Type of respondents | Form name | Number of respondents | Number of responses per respondent | Average burden per response (hours)
All participating SSPs | Survey Y1 and Survey Y2-3 | 480 | 1 | 35/60
Non-responding SSPs | Non-Response Survey Item | 480 | 1 | 2/60

Jeffrey M. Zirger,
Lead, Information Collection Review Office, Office of Scientific Integrity, Office of Science, Centers for Disease Control and Prevention.

[FR Doc. 2021-15226 Filed 7-16-21; 8:45 am]

BILLING CODE 4163-18-P